FEDERAL COMMUNICATIONS COMMISSION

47 CFR Part 73

[MB Docket No. 18-383, RM-11822; DA 19-149]

Television Broadcasting Services Cookeville and Franklin, Tennessee

AGENCY: Federal Communications Commission.

ACTION: Final rule.

SUMMARY: At the request of ION Media License Company, LLC (ION), licensee of digital television station WNPX-TV, channel 36, Cookeville, Tennessee (WNPX), the Commission has before it an unopposed Notice of Proposed Rulemaking proposing to amend the Post-Transition Table of DTV Allotments to reallot channel 36 from Cookeville to Franklin, Tennessee. ION further requested modification of WNPX's license to specify Franklin as the station's community of license. ION claimed that proposed reallotment is mutually exclusive with WNPX's current allotment because it is based on the technical specifications currently authorized for the station. Furthermore, ION stated that the proposed reallotment is consistent with the Commission's second allotment priority because it will provide Franklin with its first local transmission service. ION explained that Franklin not only qualifies as a community for allotment purposes, but is also a larger community than Cookeville and is deserving of its first local transmission service.

DATES: Effective March 15, 2019.

FOR FURTHER INFORMATION CONTACT: Darren Fernandez, Media Bureau, at Darren.Fernandez@fcc.gov; or Joyce Bernstein, Media Bureau, at Joyce.Bernstein@fcc.gov.

SUPPLEMENTARY INFORMATION: This is a summary of the Commission's Report and Order in MB Docket No. 19-149; RM-11817; DA 19-149, adopted on March 6, 2019, and released on March 6, 2019. The full text of this document is available for public inspection and copying during normal business hours in the FCC's Reference Information Center at Portals II, CY-A257, 445 12th Street SW, Washington, DC 20554, or online at http://apps.fcc.gov/ecfs/. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, 5 U.S.C. 801(a)(1)(A).

List of Subjects in 47 CFR Part 73

Television.

Federal Communications Commission.
Barbara Kreisman
Chief, Video Division, Media Bureau.

Final Rules

For the reasons discussed in the preamble, the Federal Communications Commission amends 47 CFR part 73 as follows:

1. The authority citation for part 73 continues to read as follows:

Authority: 47 U.S.C. 154, 303, 334, 336, and 339.

2. Amend § 73.622, in the table in paragraph (i), under Tennessee, by removing the entry for Cookeville and adding in alphabetical order an entry for Franklin.

The addition reads as follows:

§ 73.622 Digital television table of allotments.

* * * * *

(i) * * *

Community | Channel No.
* * * * *
Tennessee
* * * * *
Franklin | 36

* * * * *

[FR Doc. 2019-04789 Filed 3-14-19; 8:45 am]

BILLING CODE 6712-01-P